NUCLEAR REGULATORY COMMISSION

[Docket No. 70-7004]

Safety Evaluation Report for the Proposed American Centrifuge Plant in Piketon, OH, NUREG-1851; Notice of Availability

AGENCY: United States Nuclear Regulatory Commission.

ACTION: Notice of Availability of Safety Evaluation Report.

SUMMARY: Notice is hereby given that the Nuclear Regulatory Commission (NRC) has issued a Safety Evaluation Report (SER) for the USEC Inc. (USEC) license application, dated August 23, 2004, and as revised, for the possession and use of source, byproduct, and special nuclear materials at its proposed American Centrifuge Plant (ACP) in Piketon, Ohio.

The SER discusses the results of the safety review performed by NRC staff in the following areas: General information, organization and administration, Integrated Safety Analysis (ISA) and ISA Summary, radiation protection, nuclear criticality safety, chemical process safety, fire safety, emergency management, environmental protection, decommissioning, management measures, materials control and accountability, and physical protection.

The NRC is planning to conduct a public meeting in Ohio to provide an overview of the staff's safety review and to address any comments or questions relating to the issuance of the SER.

SUPPLEMENTARY INFORMATION: The SER (NUREG-1851) is available for inspection and copying for a fee at the NRC's Public Document Room, located at One White Flint North, Public File Area O1 F21, 11555 Rockville Pike (first floor), Rockville, Maryland. The Public Document Room is open from 7:45 a.m. to 4:15 p.m., Monday through Friday, except on Federal holidays.

Publicly available records will be accessible electronically from the Agency-wide Documents Access and Management Systems (ADAMS) Public Electronic Reading Room, and on the Internet at the NRC Web site, http://www.nrc.gov/NRC/ADAMS/index.html. Persons who do not have access to ADAMS or who encounter problems in accessing the documents located in ADAMS, should contact the NRC Public Document Room Reference staff by telephone at 1-800-397-4209, 301-415-4737, or by e-mail to pdr@nrc.gov.

FOR FURTHER INFORMATION CONTACT: Stanley Echols, Mail Stop: T-8F42, Special Projects Branch, Division of Fuel Cycle Safety and Safeguards, Office of Nuclear Material Safety and Safeguards, U.S. Nuclear Regulatory Commission, Washington, DC 20555-0001, Telephone: (301) 415-6981, and e-mail: fse@nrc.gov.

Dated at Rockville, Maryland, this 12th day of September, 2006.
For the Nuclear Regulatory Commission.
Joseph G. Giitter,
Chief, Special Projects Branch, Division of Fuel Cycle Safety and Safeguards, Office of Nuclear Material Safety and Safeguards.

[FR Doc. 06-8013 Filed 9-21-06; 8:45 am]

BILLING CODE 7590-01-P